DEPARTMENT OF COMMERCE

National Oceanic and Atmospheric Administration

RIN: 0648-XO51

Pacific Fishery Management Council; Public Meeting

AGENCY: National Marine Fisheries Service (NMFS), National Oceanic and Atmospheric Administration (NOAA), Commerce.

ACTION: Notice of public meetings.

SUMMARY: The Pacific Fishery Management Council's (Council) Ad Hoc Groundfish Essential Fish Habitat Review Committee (EFHRC) will hold a work session, which is open to the public, to evaluate proposals to change areas closed to bottom contact fishing gear and for modifications to groundfish Essential Fish Habitat (EFH) and Habitat Areas of Particular Concern (HAPC).

DATES: The work session will be held Tuesday, May 12, 2009, from 9 a.m. to 5 p.m., and Wednesday, May 13, 2009, from 8 a.m. to 3 p.m.

ADDRESSES: The work session will be held at the Pacific Fishery Management Council Office, Large Conference Room, 7700 NE Ambassador Place, Suite 101, Portland, OR 97220-1384; telephone: (503) 820-2280.

Council address: Pacific Fishery Management Council, 7700 NE Ambassador Place, Suite 101, Portland, OR 97220-1384.

FOR FURTHER INFORMATION CONTACT: Mr. Chuck Tracy, Staff Officer, Pacific Fishery Management Council; telephone: (503) 820-2280.

SUPPLEMENTARY INFORMATION: The purpose of the work session is to review and evaluate proposals for changes to areas closed to bottom contact gear and modifications to groundfish EFH and HAPC, and to develop recommendations for advancing proposals in the Council process. Desired proposal contents and evaluation criteria are included in the Terms of Reference (TOR) document available from the Council office or on the Council web site (www.pcouncil.org) Applicants must submit proposals to the Council office no later than 4:30 p.m. May 1, 2009, and can be sent by mail, email (pfmc.comments@noaa.gov) or fax (503-820-2299). Proposals are tentatively scheduled to be presented to the Council for initial approval at the June, 2009 Council meeting in Spokane, WA.

Although non-emergency issues not contained in the meeting agenda may come before the EFHRC for discussion, those issues may not be the subject of formal EFHRC action during this meeting. EFHRC action will be restricted to those issues specifically listed in this notice and any issues arising after publication of this notice that require emergency action under section 305(c) of the Magnuson-Stevens Fishery Conservation and Management Act, provided the public has been notified of the EFHRC's intent to take final action to address the emergency.

Special Accommodations

This meeting is physically accessible to people with disabilities. Requests for sign language interpretation or other auxiliary aids should be directed to Ms. Carolyn Porter at (503) 820-2280 at least 5 days prior to the meeting date.

Dated: April 6, 2009.
Tracey L. Thompson,
Acting Director, Office of Sustainable Fisheries, National Marine Fisheries Service.

[FR Doc. E9-8125 Filed 4-8-09; 8:45 am]

BILLING CODE 3510-22-S